DEPARTMENT OF INTERIOR

National Park Service

[NPS-WASO-NRSS-SSD-14131; PPWONRADE2, PMP00EI05.YP0000]

Proposed Information Collection: Colorado River Total Value Survey

AGENCY: National Park Service, Interior.

ACTION: Notice; request for comments.

SUMMARY: We (National Park Service) will ask the Office of Management and Budget (OMB) to approve the information collection (IC) described below. As required by the Paperwork Reduction Act of 1995 and as part of our continuing efforts to reduce paperwork and respondent burden, we invite the general public and other federal agencies to take this opportunity to comment on this IC. A federal agency not conduct or sponsor, and a person is not required to respond to, a collection of information unless it displays a currently valid OMB control number.

DATES: To ensure that your comments on this IC are considered, we must receive them on or before November 22, 2013.

ADDRESSES: Direct all written comments on this IC to Bret Meldrum, Chief, Social Science Program, National Park Service, 1201 Oakridge Drive, Fort Collins, CO 80525-5596 (mail); Bret_Meldrum@nps.gov (email); or 970-267-7295 (phone) and Phadrea Ponds, Information Collection Coordinator, National Park Service, 1201 Oakridge Drive, Fort Collins, CO 80525 (mail); or pponds@nps.gov (email). Please reference Information Collection 1024-COLORIV in the subject line.

FOR FURTHER INFORMATION CONTACT: Dr. John Duffield, University of Montana, Department of Mathematical Sciences, Missoula, MT 5981; bioecon@montana.com (email); or: 406-721-2265 (phone).

SUPPLEMENTARY INFORMATION:

I. Abstract

The National Park Service (NPS) Act of 1916, 38 Stat 535, 16 U.S.C. 1, et seq., requires that the NPS preserve national parks for the use and enjoyment of present and future generations. This collection will provide park managers and NPS partners with information about the values U.S. residents place on the Grand Canyon of the Colorado River riparian resource, and on alternative flow release scenarios from Glen Canyon Dam designed to protect canyon flora and fauna. The final survey will provide information for the economic analysis of the alternative management and operation protocols for Glen Canyon Dam. The economic analysis provides one piece of information that the Secretary of the Interior will use to evaluate future dam operation plans associated with the current ongoing Glen Canyon DEIS. This notice will cover the development and pretesting of the final survey instrument.

II. Data

OMB Number: None. This is a new collection.

Title: Colorado River Total Value Survey.

Type of Request: New.

Affected Public: General public; Individual households.

Respondent Obligation: Voluntary.

Frequency of Collection: One-time.

Estimated Number of Annual Responses: 2,000.

Annual Burden Hours: 1,000 hours. We estimate the public reporting burden to be 30 minutes per completed survey response.

Estimated Reporting and Recordkeeping “Non-Hour Cost” Burden: We have not identified any “non-hour cost” burdens associated with this collection of information.

III. Request for Comments

Comments are invited on: (1) The practical utility of the information being gathered; (2) the accuracy of the burden hour estimate; (3) ways to enhance the quality, utility, and clarity of the information to be collected; and (4) ways to minimize the burden of the collection of information on respondents, including use of automated information techniques or other forms of information technology.

Please note that the comments submitted in response to this notice are a matter of public record. We will include or summarize each comment in our request to OMB to approve this IC. Before including your address, phone number, email address, or other personal identifying information in your comment, you should be aware that your entire comment, including your personal identifying information, may be made publicly available at any time. While you can ask OMB in your comment to withhold your personal identifying information from public review, we cannot guarantee that it will be done.

Dated: September 18, 2013.
Madonna L. Baucum,
Information Collection Clearance Officer, National Park Service.

[FR Doc. 2013-23063 Filed 9-20-13; 8:45 am]

BILLING CODE 4310-EH-P